DEPARTMENT OF ENERGY

Federal Energy Regulatory Commission

Combined Notice of Filings

Take notice that the Commission has received the following Natural Gas Pipeline Rate and Refund Report filings:

Filings Instituting Proceedings

Docket Numbers: RP18-796-000.

Applicants: Algonquin Gas Transmission, LLC.

Description: § 4(d) Rate Filing: Negotiated Rate for ConEd Releases effective 5-4-18 to be effective 5/4/2018.

Filed Date: 5/4/18.

Accession Number: 20180504-5163.

Comments Due: 5 p.m. ET 5/16/18.

Docket Numbers: RP18-772-001.

Applicants: Eastern Shore Natural Gas Company.

Description: Tariff Amendment: Errrata of Baseline Filing to be effective 5/1/2018.

Filed Date: 5/7/18.

Accession Number: 20180507-5168.

Comments Due: 5 p.m. ET 5/21/18.

Docket Numbers: RP17-598-002.

Applicants: Great Lakes Gas Transmission Limited Partnership.

Description: Report Filing: Refund Report.

Filed Date: 5/8/18.

Accession Number: 20180508-5012.

Comments Due: 5 p.m. ET 5/21/18.

Docket Numbers: RP18-730-001.

Applicants: Greylock Pipeline, LLC.

Description: Tariff Amendment: Amendment to New filing 202 to be effective 5/1/2018.

Filed Date: 5/8/18.

Accession Number: 20180508-5000.

Comments Due: 5 p.m. ET 5/21/18.

Docket Numbers: RP18-805-000.

Applicants: Great Lakes Gas Transmission Limited Partnership.

Description: Revenue Cap and Revenue Sharing Mechanism True-Up Report of Great Lakes Gas Transmission Limited Partnership.

Filed Date: 5/4/18.

Accession Number: 20180504-5249.

Comments Due: 5 p.m. ET 5/16/18.

Docket Numbers: RP18-806-000.

Applicants: ENGIE Gas & LNG LLC, Exelon Generation Company, LLC.

Description: Joint Petition of ENGIE Gas & LNG LLC and Exelon Generation Company, LLC for Waiver of Commission Capacity Release Regulations and Policies and Related Natural Gas Pipeline Tariff Provisions.

Filed Date: 5/7/18.

Accession Number: 20180507-5195.

Comments Due: 5 p.m. ET 5/21/18.

Docket Numbers: RP18-807-000.

Applicants: Gulf South Pipeline Company, LP.

Description: Compliance filing Filing to Comply with Order in Docket No. CP18-107-000 (Remove SONAT) to be effective 6/8/2018.

Filed Date: 5/8/18.

Accession Number: 20180508-5007.

Comments Due: 5 p.m. ET 5/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2018.
Nathaniel J. Davis, Sr.,
Deputy Secretary.

[FR Doc. 2018-10184 Filed 5-11-18; 8:45 am]

BILLING CODE 6717-01-P